DEPARTMENT OF HOMELAND SECURITY

Coast Guard

33 CFR Part 117

[Docket No. USCG-2012-1072]

Drawbridge Operation Regulations; Saugus River, Lynn and Revere, MA

AGENCY: Coast Guard, DHS.

ACTION: Notice of temporary deviation from regulation.

SUMMARY: The U.S. Coast Guard has issued a temporary deviation from the regulation governing the operation of the General Edwards Bridge, mile 1.7, across the Saugus River between Lynn and Revere, Massachusetts. The deviation is necessary to facilitate architectural rehabilitation of the bridge towers. This deviation allows the bridge to remain in the closed position to allow scaffolding be attached to the bascule lift span to access work area.

DATES: This deviation is effective from March 1, 2013, through April 27, 2013.

ADDRESSES: The docket for this notice, USCG-2012-1072, is available online at www.regulations.gov by typing the docket number in the “SEARCH” box and clicking “SEARCH”. You may also visit the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary deviation, call or email Mr. John W. McDonald, Project Officer, First Coast Guard District, john.w.mcdonald@uscg.mil, or telephone 617-223-8364. If you have questions on viewing the docket, call Barbara Hairston, Program Manager, Docket Operations, telephone 202-366-9826.

SUPPLEMENTARY INFORMATION: The General Edwards Bridge, across the Saugus River, mile 1.7, between Lynn and Revere, Massachusetts, has a vertical clearance in the closed position of 27 feet at mean high water and 36 feet at mean low water. The drawbridge operation regulations are listed at 33 CFR 117.618(b).

The waterway users are recreational vessels of various sizes. The bridge rarely opens March through April since the recreational vessels that transit this waterway are normally in winter storage. The bridge has opened two times on average since 2002 during this time period.

The owner of the bridge, Massachusetts Department of Transportation, requested a temporary deviation from the regulations to help facilitate rehabilitation of the bridge towers that requires scaffolding be attached to the bascule lift span to access the work area.

Under this temporary deviation the General Edwards Bridge may remain in the closed position from March 1, 2013, through April 27, 2013.

Vessels that can pass under the bridge in the closed position may do so at any time.

The Coast Guard believes that this temporary deviation meets the reasonable needs of navigation because the recreational users that normally use this bridge are recreational vessels that do not operate during the winter months when this deviation will be in effect.

In accordance with 33 CFR 117.35(e), the bridge must return to its regular operating schedule immediately at the end of the designated time period. This deviation from the operating regulations is authorized under 33 CFR 117.35.

Dated: January 29, 2012.
Gary Kassof,
Bridge Program Manager, First Coast Guard District.

[FR Doc. 2013-02958 Filed 2-8-13; 8:45 am]

BILLING CODE 9110-04-P